DEPARTMENT OF ENERGY

Federal Energy Regulatory Commission

[Docket No. ER94-913-000, et al.]

Commonwealth Edison Company, et al.; Electric Rate and Corporate Regulation Filings

July 11, 2001.

Take notice that the following filings have been made with the Commission:

1. Haleywest L.L.C.

[Docket No. ER01-1760-001]

Take notice that on July 2, 2001, Haleywest L.L.C., tendered for filing, pursuant to the Federal Energy Regulatory Commission's (FERC) directive issued June 8, 2001 in the above referenced Docket No., files the FERC Rate Schedule No. 1 in the format as required by 18 CFR 35.9.

Comment date: July 23, 2001, in accordance with Standard Paragraph E at the end of this notice.

2. Niagara Mohawk Power Corporation

[Docket No. ER01-1791-001]

Take notice that on July 6, 2001, Niagara Mohawk Power Corporation tendered for filing a service agreement, i.e. an Interconnection Agreement between Niagara Mohawk Power Corporation and Canastota Wind Power, LLC for a 30 MW wind-powered generating facility located in the Town of Fenner, Madison County, New York, dated as of April 2, 2001. The filing has been designated by the New York Independent System Operator, Inc. as Service Agreement No. 306 under its FERC Electric Tariff, Original Volume No. 1. Same was filed to comply with the June 6, 2001 Order of the Commission in this docket.

Comment date: July 27, 2001, in accordance with Standard Paragraph E at the end of this notice.

3. West Texas Utilities Company

[Docket No. ER01-1798-001]

Take notice that on July 6, 2001, in compliance with the Commission's Order No. 614 and the June 6, 2001 letter order issued in the above referenced docket, West Texas Utilities Company (WTU) filed a revised Restated Service Agreement (Restated Agreement) between WTU and Tex-La Electric Cooperative of Texas, Inc. (Tex-La). The Restated Agreement was revised to reflect its designation as a Service Agreement under WTU's FERC Electric Tariff, Original Volume No. 1. WTU states that it has made no other changes to the Restated Agreement.

Comment date: July 27, 2001, in accordance with Standard Paragraph E at the end of this notice.

4. Niagara Mohawk Power Corporation

[Docket No. ER01-1894-001]

Take notice that on July 6, 2001, Niagara Mohawk Power Corporation (Niagara Mohawk) tendered for filing a service agreement, i.e. an Interconnection Agreement between Niagara Mohawk Power Corporation and Athens Generating Company, L.P. for a 1230 MW (winter rating) natural gas-fired combined cycle combustion turbine generating facility that is to be constructed in the Town of Athens, Greene County, New York, dated as of April 27, 2001. The filing has been designated by the New York Independent System Operator, Inc. as Service Agreement No. 307 under its FERC Electric Tariff, Original Volume No. 1. The filing was made to comply with a June 6, 2001 Order of the Commission in this docket.

Comment date: July 27, 2001, in accordance with Standard Paragraph E at the end of this notice.

5. MidAmerican Energy Company

[Docket No. ER01-2519-000]

Take notice that on July 6, 2001, MidAmerican Energy Company (MidAmerican), filed with the Commission a Fourth Supplement to Service Agreement No. 15 (Fourth Supplement), dated June 8, 2001, entered into by MidAmerican and the Resale Power Group of Iowa, pursuant to MidAmerican's Rate Schedule for Power Sales, FERC Electric Tariff, Original Volume No. 5 (FERC Docket No. ER96-719-000; amended in FERC Docket No. ER00-2051-000).

MidAmerican requests an effective date of June 8, 2001 for the Fourth Supplement and seeks a waiver of the Commission's notice requirement. MidAmerican has served a copy of the filing on the Resale Power Group of Iowa, the Iowa Utilities Board, the Illinois Commerce Commission and the South Dakota Public Utilities Commission.

Comment date: July 27, 2001, in accordance with Standard Paragraph E at the end of this notice.

6. Southern California Edison Company

[Docket No. ER01-2520-000]

Take notice that on July 6, 2001, Southern California Edison Company (SCE) tendered for filing under SCE's Wholesale Distribution Access Tariff a Service Agreement for Wholesale Distribution Service and an Interconnection Facilities Agreement (collectively, Agreements) between SCE and California Portland Cement Company (CPCC). Copies of this filing were served upon the Public Utilities Commission of the State of California and CPCC.

SCE respectfully requests the Agreements to become effective July 7, 2001.

Comment date: July 27, 2001, in accordance with Standard Paragraph E at the end of this notice.

7. MidAmerican Energy Company

[Docket No. ER01-2521-000]

Take notice that on July 6, 2001, MidAmerican Energy Company (MidAmerican), filed with the Commission a Firm Transmission Service Agreement with the City of Pella, Iowa, dated June 19, 2001, entered into pursuant to MidAmerican's Open Access Transmission Tariff. MidAmerican has served a copy of the filing on the Iowa Utilities Board and the City of Pella, Iowa.

MidAmerican requests an effective date of June 19, 2001 for the Agreement and seeks a waiver of the Commission's notice requirement.

Comment date: July 27, 2001, in accordance with Standard Paragraph E at the end of this notice.

8. PacifiCorp

[Docket No. ER01-2522-000]

Take notice that PacifiCorp on July 6, 2001, tendered for filing in accordance with 18 CFR 35 of the Commission's Rules and Regulations, a Long-Term Firm Transmission Service Agreement with Powerex Corporation (Powerex) under PacifiCorp's FERC Electric Tariff, Second Revised Volume No. 11 (Tariff).

Copies of this filing were supplied to the Washington Utilities and Transportation Commission and the Public Utility Commission of Oregon.

Comment date: July 27, 2001, in accordance with Standard Paragraph E at the end of this notice.

9. PacifiCorp

[Docket No. ER01-2523-000]

Take notice that PacifiCorp on July 6, 2001, tendered for filing in accordance with 18 CFR 35 of the Commission's Rules and Regulations, a Long-Term Firm Transmission Service Agreements with Idaho Power Company (Idaho) under PacifiCorp's FERC Electric Tariff, Second Revised Volume No. 11 (Tariff).

Copies of this filing were supplied to the Washington Utilities and Transportation Commission and the Public Utility Commission of Oregon.

Comment date: July 27, 2001, in accordance with Standard Paragraph E at the end of this notice.

10. PacifiCorp

[Docket No. ER01-2524-000]

Take notice that PacifiCorp on July 6, 2001, tendered for filing in accordance with 18 CFR 35 of the Commission's Rules and Regulations, Long-Term Firm Transmission Service Agreements with Cargill-Alliant, LLC. under PacifiCorp's FERC Electric Tariff, Second Revised Volume No. 11 (Tariff).

Copies of this filing were supplied to the Washington Utilities and Transportation Commission and the Public Utility Commission of Oregon.

Comment date: July 27, 2001, in accordance with Standard Paragraph E at the end of this notice.

11. PacifiCorp

[Docket No. ER01-2525-000]

Take notice that PacifiCorp on July 6, 2001, tendered for filing in accordance with 18 CFR 35 of the Commission's Rules and Regulations, a Long-Term Firm Transmission Service Agreement with PacifiCorp Power Marketing (PPM) under PacifiCorp's FERC Electric Tariff, Second Revised Volume No. 11 (Tariff).

Copies of this filing were supplied to the Washington Utilities and Transportation Commission and the Public Utility Commission of Oregon.

Comment date: July 27, 2001, in accordance with Standard Paragraph E at the end of this notice.

12. MidAmerican Energy Company

[Docket No. ER01-2526-000]

Take notice that on July 6, 2001, MidAmerican Energy Company (MidAmerican), 666 Grand Avenue, Des Moines, Iowa 50309, filed with the Commission a Firm Transmission Service Agreement and a Non-Firm Transmission Service Agreement with Axia Energy, LP, both dated June 19, 2001, and entered into pursuant to MidAmerican's Open Access Transmission Tariff.

MidAmerican requests an effective date of June 19, 2001 for the Agreement and seeks a waiver of the Commission's notice requirement. MidAmerican has served a copy of the filing on the Iowa Utilities Board and Axia Energy, LP.

Comment date: July 27, 2001, in accordance with Standard Paragraph E at the end of this notice.

13. Southwest Power Pool, Inc.

[Docket No. ER01-2527-000]

Take notice that on July 6, 2001, Southwest Power Pool, Inc. (SPP) submitted for filing three executed service agreements for Firm Point-to-Point Transmission Service, Non-Firm Point-to-Point Transmission Service, and Loss Compensation Service with Exelon Generation Company, LLC (Exelon), three executed service agreements for Firm Point-to-Point Transmission Service, Non-Firm Point-to-Point Transmission Service, and Loss Compensation Service with Blue Canyon Windpower, LLC (Blue Canyon), and two executed service agreements for Firm Point-to-Point Transmission Service and Loss Compensation Service with Arkansas Electric Marketing, LLC (AEM)(collectively, Transmission Customers). SPP requests an effective date of June 27, 2001 for the service agreements with Exelon and AEM and July 2, 2001, for the service agreements with Blue Canyon.

A copy of this filing was served on the Transmission Customers.

Comment date: July 27, 2001, in accordance with Standard Paragraph E at the end of this notice.

14. PJM Interconnection, L.L.C.

[Docket No. ER01-2528-000]

Take notice that on July 6, 2001, PJM Interconnection, L.L.C. (PJM) tendered for filing proposed amendments to the Appendix to Attachment K of PJM Open Access Transmission Tariff and to Schedule 1 of the Amended and Restated Operating Agreement of PJM Interconnection, L.L.C. to add a new section 8 implementing an interregional congestion pilot program between PJM and the New York Independent System Operator, Inc. (NYISO).

Copies of this filing have been served on all PJM Members, the NYISO, and the state electric regulatory commissions in the PJM control area the NYISO control areas.

Comment date: July 27, 2001, in accordance with Standard Paragraph E at the end of this notice.

15. Sierra Pacific Power Company and Nevada Power Company

[Docket No. ER01-2529-000]

Take notice that on July 6, 2000, Sierra Pacific Power Company (Sierra) and Nevada Power Company (Nevada Power) tendered for filing a Notice of Termination of Sierra Pacific Resources Operating Companies FERC Electric Tariff, Second Revised Volume No. 1 (the Retail Access Tariff), which was intended to implement retail access in Nevada. Sierra and Nevada Power note that the statute implementing retail access in Nevada was repealed before the Retail Access Tariff went into effect. Sierra and Nevada Power request that the termination be made effective as of October 1, 2001.

Comment date: July 27, 2001, in accordance with Standard Paragraph E at the end of this notice.

16. Exelon Generation Company, LLC

[Docket No. ER01-2530-000]

Take notice that on July 6, 2001, Exelon Generation Company, LLC (Exelon Generation) submitted for filing with the Federal Energy Regulatory Commission (FERC or Commission) a service agreement for wholesale power sales transactions between Exelon Generation and Central Illinois Light Company under Exelon Generation's wholesale power sales tariff, FERC Electric tariff, Original Volume No. 1.

Comment date: July 27, 2001, in accordance with Standard Paragraph E at the end of this notice.

17. Central Maine Power Company

[Docket No. ER01-2531-000]

Please take notice that on July 6, 2001, Central Maine Power Company (CMP) tendered for filing a service agreement for Short-Term Firm Point-to-Point Transmission Service entered into with NRG Power Marketing Inc. Service will be provided pursuant to CMP's Open Access Transmission Tariff, designated as CMP—FERC Electric Tariff, Fifth Revised, Volume No. 3, Original Service Agreement No. 132.

CMP request a waiver of the Commission's notice requirements to permit service under the agreement to begin effective as of June 21, 2001.

Comment date: July 27, 2001, in accordance with Standard Paragraph E at the end of this notice.

18. Central Maine Power Company

[Docket No. ER01-2532-000]

Please take notice that on July 6, 2001, Central Maine Power Company (CMP) tendered for filing a service agreement for Umbrella Non-Firm Point-to-Point Transmission Service entered into with NRG Power Marketing Inc. Service will be provided pursuant to CMP's Open Access Transmission Tariff, designated as CMP—FERC Electric Tariff, Fifth Revised, Volume No. 3, Original Service Agreement No. 130.

CMP requests waiver of the Commission's notice requirements to permit service under the agreement to begin effective as of June 6, 2001.

Comment date: July 27, 2001, in accordance with Standard Paragraph E at the end of this notice.

19. Central Maine Power Company

[Docket No. ER01-2533-000]

Please take notice that on July 6, 2001, Central Maine Power Company (CMP) tendered for filing a service agreement for Umbrella Non-Firm Point-to-Point Transmission Service entered into with Axia Energy, LP. Service will be provided pursuant to CMP's Open Access Transmission Tariff, designated as CMP—FERC Electric Tariff, Fifth Revised, Volume No. 3, Original Service Agreement No. 131.

CMP request waiver of the Commission's notice requirements to permit service under the agreement to begin effective as of June 12, 2001.

Comment date: July 27, 2001, in accordance with Standard Paragraph E at the end of this notice.

20. New England Power Pool

[Docket No. ER01-2534-000]

Take notice that on July 6, 2001, the New England Power Pool (NEPOOL) Participants Committee submitted changes to multiple Market Rules to implement changes to the treatment of Installed Capability (ICAP) transactions in order to facilitate and standardize the trading of ICAP and firm Energy products across control area boundaries. A September 1, 2001 effective date has been requested.

The NEPOOL Participants Committee states that copies of these materials were sent to the New England state governors and regulatory commissions and the Participants in the New England Power Pool.

Comment date: July 27, 2001, in accordance with Standard Paragraph E at the end of this notice.

21. Vermont Electric Power Company, Inc.

[Docket No. ER01-2535-000]

Take notice that on July 6, 2001, Vermont Electric Power Company, Inc. (VELCO) submitted three firm point-to-point and three non-firm point-to-point service agreements establishing the following as customers under the terms of VELCO's Local Open Access Transmission Tariff: Axia Energy, LP, Legacy Energy Group, LLC, and Energy USA—TPC. VELCO also filed a revised List of Customers With Active Service Agreements.

VELCO asks that these agreements become effective as of the respective dates of the agreements, and that the revised List of Customers become effective as of the date of filing. Accordingly, VELCO requests a waiver of the Commission's notice requirements. Copies of this filing were served on the customers, the Vermont Department of Public Service, and the Vermont Public Service Board.

Comment date: July 27, 2001, in accordance with Standard Paragraph E at the end of this notice.

22. New York Independent System Operator, Inc.

[Docket No. ER01-2536-000]

Take notice that the New York Independent System Operator, Inc. (NYISO) on July 6, 2001 tendered for filing proposed revisions to Sections 5.9—5.16 of its Market Administration and Control Area Services Tariff. The NYISO requests an effective date of 60 days after this filing (September 4, 2001).

Copies of this filing were served upon all persons who have executed Service Agreements under the ISO Market Services Tariff and all parties included on the service list for docket number ER98-3169-000.

Comment date: July 27, 2001, in accordance with Standard Paragraph E at the end of this notice.

23. CalPeak Power—Midway LLC, CalPeak Power—Panoche LLC, CalPeak Power—Vaca Dixon LLC, CalPeak Power—El Cajon LLC, CalPeak Power—Enterprise LLC, CalPeak Power—Border LLC, and CalPeak Power—Mission LLC

[Docket Nos. ER01-2537-000, ER01-2543-000, ER01-2544-000, ER01-2545-000, ER01-2546-000, ER01-2547-000, and ER01-2548-000]

Take notice that on July 6, 2001, CalPeak Power—Midway LLC, CalPeak Power—Panoche LLC, CalPeak Power—Vaca Dixon LLC, CalPeak Power—El Cajon LLC, CalPeak Power—Enterprise LLC, CalPeak Power—Border LLC and CalPeak Power—Mission LLC (together, the Applicants) requested the Commission to: (1) Accept for filing the Applicants' proposed FERC Electric Tariffs, and grant their requests for blanket authority to make market-based sales of energy, capacity and certain ancillary services; and (2) grant the Applicants such waivers and authorizations as have been granted by the Commission to other entities authorized to transact at market-based rates.

Comment date: July 27, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-17806 Filed 7-16-01; 8:45 am]

BILLING CODE 6717-01-P